ENVIRONMENTAL PROTECTION AGENCY

[EPA-HQ-OLEM-2018-0305; FRL-9997-08-OMS]

Agency Information Collection Activities; Submission to OMB for Review and Approval; Comment Request; Guidance for Applicants Requesting To Treat/Dispose of PCBs Using Incineration or an Alternative Method (New)

AGENCY: Environmental Protection Agency (EPA).

ACTION: Notice.

SUMMARY: The Environmental Protection Agency (EPA) has submitted an information collection request (ICR), Guidance for Applicants Requesting to Treat/Dispose of PCBs Using Incineration or an Alternative Method (EPA ICR Number 2596.01, OMB Control Number 2070-NEW), to the Office of Management and Budget (OMB) for review and approval in accordance with the Paperwork Reduction Act. This is a request of a new collection. Public comments were previously requested via the Federal Register on April 16, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 27, 2019.

ADDRESSES: Submit your comments, referencing Docket ID No. EPA-HQ-OLEM-2018-0305, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Josh Smeraldi, Office of Resource Conservation and Recovery (Mail Code 5303P), U.S. Environmental Protection Agency, 1200 Pennsylvania Ave. NW, Washington, DC 20460; telephone number: 703-308-0441; email address: smeraldi.josh@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Guidance documents were developed in 1986 for persons applying to EPA for approval to dispose of PCBs using incineration (40 CFR 761.70) or a method alternative to incineration (40 CFR 761.60(e)). The guidances are split into two document (thermal and non-thermal) and they present and discuss the format, content, and suggested level of detail for approval applications, test plans, and test reports.

EPA is currently updating these guidance documents and will combine into a single document. This is a new ICR that addresses reporting and recordkeeping requirements found in the updated guidance document identified above. The previous guidance documents released in 1986 were not required to conduct an ICR so a new ICR will be created for the updated guidance. While use of the updated guidance document is voluntary, the PRA still requires the reporting and recordkeeping of this guidance to be determined. This includes reading and using the tables provided in the guidance.

Form Numbers: None.

Respondents/affected entities: Entities potentially affected by this ICR include respondents applying to the EPA for approval to treat/dispose PCBs using incinerator or an alternative method. This likely includes entities within the Waste Management and Remediation Services (NAICS 562) and Professional, Scientific, and Technical Services (NAICS 54) sectors and includes private entities.

Respondent's obligation to respond: Voluntary, for use in applying to EPA for approval under 40 CFR parts 761.60(e) or 761.70.

Estimated number of respondents: 8.

Frequency of response: One-time.

Total estimated burden: 320 hours per year. Burden is defined at 5 CFR 1320.03(b).

Total estimated cost: $25,065 (per year), includes $0 annualized capital or operation & maintenance costs.

Changes in the Estimates: This ICR describes the guidance and estimates the annual hour and cost burden to respondents and EPA who choose to use the new Guidance for Applicants Requesting to Treat/Dispose of PCBs Using Incineration or an Alternative Method. This guidance combines two existing guidance documents that were developed in 1986 for persons applying to EPA for approval to dispose of PCBs using incineration (761.70) or a method alternative to incineration (761.60(e)) and present and discuss the format, content, and suggested level of detail for approval applications, test plans, and test reports.

Courtney Kerwin,
Director, Regulatory Support Division.

[FR Doc. 2019-18564 Filed 8-27-19; 8:45 am]

BILLING CODE 6560-50-P